DEPARTMENT OF AGRICULTURE

Federal Crop Insurance Corporation

7 CFR Part 457

RIN 0563-AB87 and RIN 0563-AB89

Common Crop Insurance Regulations

AGENCY: Federal Crop Insurance Corporation, USDA.

ACTION: Final rule.

SUMMARY: The Federal Crop Insurance Corporation (FCIC) finalizes the interim Common Crop Insurance Regulations, Sunflower Seed Crop Insurance Provisions, Coarse Grains Crop Insurance Provisions, Safflower Crop Insurance Provisions, Dry Pea Crop Insurance Provisions, Rice Crop Insurance Provisions, Dry Bean Crop Insurance Provisions, and Canola and Rapeseed Crop Insurance Provisions to implement the quality loss adjustment procedures contained in section 10003 of the Farm Security and Rural Investment Act of 2002.

EFFECTIVE DATE: June 1, 2004.

FOR FURTHER INFORMATION CONTACT: Louise Narber, Insurance Management Specialist, Product Development Division, Federal Crop Insurance Corporation, 6501 Beacon Drive, Stop 0812, Room 421, Kansas City, MO 64133-4676, telephone (816) 926-7730.

SUPPLEMENTARY INFORMATION:

Executive Order 12866

This rule has been determined to be not-significant for the purposes of Executive Order 12866 and, therefore, has not been reviewed by the Office of Management and Budget (OMB).

Paperwork Reduction Act of 1995

Pursuant to the Paperwork Reduction Act of 1995 (44 U.S.C. chapter 35), the collections of information in this rule have been approved by the Office of Management and Budget (OMB) under control number 0563-0053 through February 28, 2005.

Unfunded Mandates Reform Act of 1995

Title II of the Unfunded Mandates Reform Act of 1995 (UMRA) establishes requirements for Federal agencies to assess the effects of their regulatory actions on State, local, and tribal governments or the private sector. This rule contains no Federal mandates (under the regulatory provisions of title II of the UMRA) for State, local, and tribal governments or the private sector. Therefore, this rule is not subject to the requirements of sections 202 and 205 of the UMRA.

Executive Order 13132

The rule will not have a substantial direct effect on states, on the relationship between the national government and the states, or on the distribution of power and responsibilities among the various levels of government. Nor does this rule impose substantial direct compliance costs on state and local governments. Therefore, consultation with the states is not required.

Regulatory Flexibility Act

FCIC certifies that this regulation will not have a significant economic impact on a substantial number of small entities. Program requirements for the Federal crop insurance program are the same for all producers regardless of the size of their farming operation. For instance, all producers are required to submit an application and acreage report to establish their insurance guarantees, and compute premium amounts, or a notice of loss and production information to determine an indemnity payment in the event of an insured cause of crop loss. Whether a producer has 10 acres or 1000 acres, there is no difference in the kind of information collected. To ensure crop insurance is available to small entities, the Federal Crop Insurance Act authorizes FCIC to waive collection of administrative fees from limited resource farmers. FCIC believes this waiver helps to ensure small entities are given the same opportunities to manage their risks through the use of crop insurance. A Regulatory Flexibility Analysis has not been prepared since this regulation does not have an impact on small entities, and, therefore, this regulation is exempt from the provisions of the Regulatory Flexibility Act (5 U.S.C. 605).

Federal Assistance Program

This program is listed in the Catalog of Federal Domestic Assistance under No. 10.450.

Executive Order 12372

This program is not subject to the provisions of Executive Order 12372 which requires intergovernmental consultation with State and local officials. See the Notice related to 7 CFR part 3015, subpart V, published at 48 FR 29115, June 24, 1983.

Executive Order 12988

This rule has been reviewed in accordance with Executive Order 12988 on civil justice reform. The provisions of this rule will not have a retroactive effect. The provisions of this rule will preempt State and local laws to the extent such State and local laws are inconsistent herewith. The administrative appeal provisions published at 7 CFR part 11 or 7 CFR 400.169, as applicable, must be exhausted before any action for judicial review of any determination or action by FCIC may be brought.

Environmental Evaluation

This action is not expected to have a significant impact on the quality of the human environment, health, and safety. Therefore, neither an Environmental Assessment nor an Environmental Impact Statement is needed.

Background

On Friday, June 28, 2002, FCIC published an interim rule in the Federal Register at 67 FR 43525-43526 to amend the Common Crop Insurance Regulations, Small Grains Crop Provisions (7 CFR 457.101) and Canola and Rapeseed Crop Insurance Provisions (7 CFR 457.161). The interim rule was effective on June 26, 2002. On June 9, 2003, FCIC published a final rule amending the Small Grains Crop Provisions (68 FR 34261), effective June 4, 2003, which superseded the interim rule for § 457.101. On Friday, August 30, 2002, FCIC published an the interim rule in the Federal Register at 67 FR 55689-55691 to amend the Common Crop Insurance Regulations, Sunflower Seed Crop Insurance Provisions (7 CFR 457.108), Coarse Grains Crop Insurance Provisions (7 CFR 457.113), Safflower Crop Insurance Provisions (7 CFR 457.125), Dry Pea Crop Insurance Provisions (7 CFR 457.140), Rice Crop Insurance Provisions (7 CFR 457.141), and Dry Bean Crop Insurance Provisions (7 CFR 457.150). The interim rule was effective on August 28, 2002. These interim rules implemented the quality loss adjustment procedures contained in section 10003 of the Farm Security and Rural Investment Act of 2002 (Pub. L. 102-171). Following publication of each interim rule, the public was afforded 60 days to submit written comments and opinions. No comments were received.

List of Subjects in 7 CFR Part 457

Common Crop Insurance Regulations.

Final Rule

Accordingly, as set forth in the preamble and under the authority of 7 U.S.C. 1506(l), 1506(p), except for the amendments to § 457.101, the interim rules amending 7 CFR part 457, published on June 28, 2002, and August 30, 2002, at 67 FR 43525 and 55689 respectively, are adopted as final.

Signed in Washington, DC, on April 21, 2004.
Ross J. Davidson, Jr.,
Manager, Federal Crop Insurance Corporation.

[FR Doc. 04-9486 Filed 4-28-04; 8:45 am]

BILLING CODE 3410-08-P